NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 78 FR 3453, and one comment was received. NSF is forwarding the proposed submission to the Office of Management and Budget (OMB) for clearance simultaneously with the publication of this second notice. The full submission (including comments) may be found at: http://www.reginfo.gov/public/do/PRAMain.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by January 2, 2014, to be assured consideration. Comments received after that date will be considered to the extent practicable. Send comments to address below.

FOR FURTHER INFORMATION CONTACT: Ms. Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Comments: As required by 5 CFR 1320.8(d), comments on the information collection activities as part of this study were solicited through publication of a 60-Day Notice in the Federal Register on January 17, 2013, at 78 FR 3453. We received one comment, to which we here respond.

Comment and Response: The Council on Governmental Relations (COGR). The concerns raised by COGR were addressed by the Engineering Directorate at the National Science Board Task Force on Administrative Burdens meeting held on April 22, 2013. The Engineering Directorate acknowledged that, given the current guidelines, the original Federal Register notice for this EFRI project contained an error in using the word “required” and that it has since changed the request to the respondents from required to voluntary. In addition, the data collection requested here for the purpose of the pilot aims to undertake testing of the EFRI questionnaire by an objective, independent, third party to ensure that the questions asked have a format and scope that minimizes the burden on the respondents.

After consideration of this comment and action taken to mitigate the concerns raised, we are moving forward with our submission to OMB.

Title of Collection: Grantee Reporting Requirements for the Emerging Frontiers in Research and Innovation program.

OMB Number: 3145-NEW.

Type of Request: Intent to seek approval to establish an information collection system.

Abstract

Proposed Project: The Office of Emerging Frontiers in Research and Innovation (EFRI) has been established as a result of strategic planning and reorganization of NSF Engineering Directorate (ENG). Motivated by the vision of the Directorate for Engineering to be the global leader in advancing the frontiers of fundamental engineering research, Emerging Frontiers in Research and Innovation (EFRI) EFRI serves a critical role in focusing research on important emerging areas in a timely manner. EFRI awards receive support of up to a total of $2,000,000 spread over four years. The EFRI program has awarded 215 research proposals since 2007.

The EFRI program is a relatively new and substantial funding initiative. Therefore, it is of great value to determine the effectiveness and outcomes of the program. This request for OMB approval is in reference to a pilot project to test the design and implementation of a questionnaire developed by the EFRI/ENG and OAD/ENG team. The EFRI/ENG team is seeking the assistance of an objective, independent, third party to evaluate that the questionnaire has a format and scope that minimizes the burden on the respondents. The questionnaire shall be evaluated for its effectiveness in capturing the data detailed in the EFRI logic model while streamlining the collection process and minimizing the burden to the PI, including eliminating any redundancies and overlap with indicators already collected in the NSF's standard reporting mechanism, the Research Performance Progress Report (RPPR). The purpose of the questionnaire being tested is to obtain, on a voluntary basis, the best data available on the outcomes of the funded research. Because of the very unique and innovative nature of the EFRI grants, we are seeking to collect additional longitudinal information from the grantees about their research that allows us to capture the unique goals and purpose of the program. This is very important to enable appropriate and accurate evaluation of the program and to determine whether or not the specific goals of the program are being met.

The questionnaire, built to reflect upon the EFRI logic model, address the following categories of activities: (1) Knowledge transfer across disciplines, (2) innovation of ideas in areas of greater opportunity, (3) potential for translational research, (4) project results advance the frontier/creation of new fields of study, (5) innovative research methods or discoveries are introduced to the classroom, and (6) fostering participation of underrepresented groups in science. For each of the categories the questionnaire collects information from the grantees on specific project outputs and outcomes.

Grantees will be asked to provide responses to the questions asked in the questionnaire on their progress, on a voluntary basis. To track the activity of EFRI grants, the questionnaire collects information on impact indicators. These indicators are both quantitative and descriptive and may include, for example, the achievements of EFRI investigators and students; characteristics of industrial and/or other sector participation; research, educational, and knowledge transfer impacts; patents, licenses; publications; new methods, significant advances, achievements and other outcomes of the EFRI effort.

Use of the Information: The data collected will be used for NSF internal reports, historical data, program level studies and evaluations, and for securing future funding for continued EFRI program maintenance and growth.

Estimate of Burden: No more than 8.5 hours per grant for no greater than 20 grants (including the time to collect the data and information).

Respondents: Principle Investigators that lead the EFRI grants, students and post-docs.

Estimated Number of Responses per Report: There are 14 questions in the questionnaire and an additional 7 questions in a student satisfaction survey.

Dated: November 26, 2013.
Suzanne H. Plimpton,
Reports Clearance Officer, National Science Foundation.

[FR Doc. 2013-28738 Filed 11-29-13; 8:45 am]

BILLING CODE 7555-01-P